DEPARTMENT OF THE INTERIOR

Fish and Wildlife Service

Kodiak National Wildlife Refuge, Alaska

AGENCY: Fish and Wildlife Service, Interior.

ACTION: Notice of availability of the Record of Decision for the Final Revised Comprehensive Conservation Plan and Environmental Impact Statement for Kodiak National Wildlife Refuge, Alaska.

SUMMARY: This is a notice of availability of the Record of Decision (ROD) for the Kodiak National Wildlife Refuge Final Comprehensive Conservation Plan and Environmental Impact Statement (Final CCP/EIS). The Refuge is located in the Kodiak Island Borough, Alaska. The Final CCP/EIS included a thorough analysis of environmental, social, and economic considerations. The Final CCP/EIS was released to the public and a Notice of Availability was published in the Federal Register on October 6, 2006 (71 FR 59105). The ROD documents the selection of Alternative D, the Preferred Alternative in the Final CCP/EIS, as the Comprehensive Conservation Plan for Kodiak Refuge. The ROD was signed by the Regional Director, U.S. Fish and Wildlife Service, Alaska Region, on February 8, 2007.

ADDRESSES: A paper copy of the ROD or Final CCP/EIS (also available on a compact disk) may be obtained from the Refuge Manager, Kodiak National Wildlife Refuge, 1390 Buskin River Road, Kodiak, Alaska 99615, Phone (907) 487-2600 or from Mikel Haase, Planning Team Leader, U.S. Fish and Wildlife Service, 1011 East Tudor Road, MS 231, Anchorage, Alaska 99503-6199, Phone (907) 786-3402. You may access or download the ROD or Final CCP/EIS at the following Web site: http://alaska.fws.gov/nwr/planning/kodpol.htm.

FOR FURTHER INFORMATION CONTACT: Refuge Manager at the above address or phone.

SUPPLEMENTARY INFORMATION: The Kodiak Refuge Comprehensive Conservation Plan provides management guidance that conserves refuge resources and facilitates compatible fish and wildlife-dependent public use activities during the next 15 years. The following is a summary of the ROD for the Refuge's Final CCP/EIS.

The Service has selected Alternative D, the Preferred Alterative, as the Comprehensive Conservation Plan for Kodiak Refuge. Alternative D addresses key issues and concerns identified during the planning process and will best achieve the purposes of the Refuge as well as the mission of the National Wildlife Refuge System. This decision adopts the management goals and objectives (Chapter 2) and the stipulations and mitigation measures identified in Alternative D and in the compatibility determinations (Appendix E). Implementation of Alternative D will occur over the next 15 years, depending on future staffing levels and funding.

Factors Considered in Making the Decision

The decision was based on a thorough analysis of the environmental, social, and economic considerations presented in the Final CCP/EIS. The Service reviewed and considered the impacts identified in Chapter 4 of the Draft and Final CCP/EIS; relevant issues, concerns, and opportunities; input received throughout the planning process, including the results of various studies and surveys, advice from technical experts, and public comments on the Draft and Final CCP/EIS; and other factors, including refuge purposes and relevant laws, regulations, and policies. The Final EIS/CCP addresses a variety of needs, including protection of fish and wildlife populations and their habitats and providing opportunities for fish and wildlife-dependent recreation, subsistence, and other public uses. The combination of these components in Alternative D contributes significantly to achieving refuge purposes and goals. Alternative D also strengthens the monitoring of fish, wildlife, habitat, and public uses on the Refuge to provide means to better respond to changing conditions in the surrounding landscape.

Dated: April 20, 2007.
Thomas O. Melius,
Regional Director, U.S. Fish & Wildlife Service, Anchorage, Alaska.

[FR Doc. E7-8076 Filed 4-26-07; 8:45 am]

BILLING CODE 4310-55-P